OFFICE OF THE UNITED STATES TRADE REPRESENTATIVE

Anti-Counterfeiting Trade Agreement: Request for Comments From the Public

AGENCY: Office of the United States Trade Representative.

ACTION: Request for written submissions from the public.

SUMMARY: The Office of the United States Trade Representative (USTR) has concluded negotiations on a proposed agreement to strengthen international cooperation, enforcement practices and legal frameworks for addressing counterfeiting and piracy. USTR is requesting written comments from the public on the final text of the Anti-Counterfeiting Trade Agreement (ACTA) in connection with consideration of U.S. signature of the agreement.

The deadline for submission of written comments is, 5 p.m., Tuesday, February 15, 2011.

ADDRESSES: All written comments should be sent electronically via http://www.regulations.gov, docket number USTR-2010-0014. Submissions should contain the term “ACTA Public Comments” in the “Type comment & Upload file” field on http://www.regulations.gov.

FOR FURTHER INFORMATION CONTACT: Kira M. Alvarez, Chief Negotiator and Deputy Assistant U.S. Trade Representative for Intellectual Property Enforcement, Office of the United States Trade Representative, at (202) 395-4510. Further information about ACTA can be located at http://www.ustr.gov/webfm_send/2379.

1. Supplementary Information

USTR, working with a group of trading partners, has concluded negotiations on a proposed agreement to strengthen international cooperation, enforcement practices and legal frameworks for addressing counterfeiting and piracy. USTR is requesting written comments from the public on the final text of the Anti-Counterfeiting Trade Agreement (ACTA) in connection with consideration of U.S. signature of the agreement.

Participants in the negotiations included: Australia, Canada, the European Union (EU) represented by the European Commission and the EU Presidency (Belgium) and the EU Member States, Japan, Korea, Mexico, Morocco, New Zealand, Singapore, Switzerland and the United States.

Consistent with the Administration's strategy for intellectual property enforcement, ACTA would be the highest-standard plurilateral agreement yet achieved concerning the enforcement of intellectual property rights, and would establish an international model for effectively combating the global proliferation of commercial-scale counterfeiting and piracy. In addition to requirements concerning legal frameworks for intellectual property enforcement, the proposed agreement also includes innovative provisions to deepen international cooperation and to promote strong enforcement practices. Together these provisions will help to protect American jobs in innovative and creative industries against intellectual property theft.

2. Text and Summary Information

The full, final text of the ACTA, together with summaries and related information, can be found at http://www.ustr.gov/acta.

3. Public Comments

a. Written Comments

Written comments must be received by February 15, 2011 at 5 p.m.

b. Requirements for Comments

Comments must be in writing and in English. All comments should be sent electronically via http://www.regulations.gov, docket number USTR-2010-0014.

To submit comments to http://www.regulations.gov, find the docket by entering the number USTR-2010-0014 in the “Enter Keyword or ID” window at the http://www.regulations.gov home page and click “Search.” The site will provide a search-results page listing all documents associated with this docket. Find a reference to this notice by selecting “Notice” under “Document Type” on the left side of the search-results page, and click on the link entitled “Submit a comment.” (For further information on using the http://www.regulations.gov Web site, please consult the resources provided on the Web site by clicking on “How to Use This Site” on the left side of the home page).

The http://www.regulations.gov site provides the option of providing comments by filling in a “Type comment & Upload file” field, or by attaching a document. It is USTR's preference that comments be provided in an attached document. If a document is attached, please type “ACTA Public Comments” in the “Type comment & Upload file” field. USTR prefers submissions in Microsoft Word (.doc) or Adobe Acrobat (.pdf). If the submission is in an application other than those two, please indicate the name of the application in the “Comments” field.

For any comments containing business confidential information, the filer should type “ACTA Comments—Business Confidential” in the “Type Comment & Upload file” field. Any page containing business confidential information must be clearly marked “BUSINESS CONFIDENTIAL” on the top of that page. Filers of submissions containing business confidential information must also submit a separate public version of their comments with the business confidential information redacted. The filer should type “ACTA Comments—Public Version” in the “Type Comment & Upload file” field. If it is determined that the comment does not contain business confidential information, the filer will be notified of that determination and allowed to withdraw their comment.

4. Inspection of Comments, Notices, and Hearing Statements

USTR will maintain a docket on the ACTA Public Review that is accessible to the public. The public file will include all comments received which will be placed in the docket and open to public inspection pursuant to 15 CFR 2006.13, except confidential business. Comments may be viewed on the http://www.regulations.gov Web site by entering docket number USTR-2010-0014 in the search field on the home page.

Stanford K. McCoy,
Assistant U.S. Trade Representative for Intellectual Property and Innovation.

[FR Doc. 2010-31763 Filed 12-16-10; 8:45 am]

BILLING CODE 3190-W1-P